DEPARTMENT OF COMMERCE

National Oceanic and Atmospheric Administration

[Docket No. 000616180-2007-05]

RIN 0648-ZA91

NOAA Climate and Global Change Program, Program Announcement

AGENCY: Office of Global Programs, Office of Oceanic and Atmospheric Research, National Oceanic and Atmospheric Administration, Commerce.

ACTION: Notice.

SUMMARY: The Climate and Global Change Program represents a National Oceanic and Atmospheric Administration (NOAA) contribution to evolving national and international programs designed to improve our ability to observe, understand, predict, and respond to changes in the global environment. This program builds on NOAA's mission requirements and long-standing capabilities in global change research and prediction. The NOAA Program is a key contributing element of the U.S. Global Change Research Program (USGCRP), which is coordinated by the interagency Committee on Environmental and Natural Resources. NOAA's program is designed to complement other agencies' contributions to that national effort.

All proposals must be submitted in accordance with the requirements below. Failure to heed these guidelines will result in proposals being returned without review.

DATES: Unless otherwise noted, strict deadlines for submission to the FY 2003 process are: Letters of intent must be received at the Office of Global Programs (OGP) no later than 30 days after the Announcement appears in the Federal Register. Applicants who have not received a response to their letter of intent within four weeks should contact the Program Manager. Full proposals must be received at OGP no later than 60 days after the due date for Letters of Intent. The time from receipt of proposals to grant award varies by program area. We anticipate that review of full proposals will occur during August and September 2002, and funding should begin during early spring of 2003 for most approved projects. Applicants should be notified of their status within six months. February 1, 2003 or March 1, 2003, should be used as the proposed start date on proposals, unless otherwise directed by the appropriate Program Manager.

ADDRESSES: Letters of Intent and Proposals should be submitted to: Office of Global Programs; National Oceanic and Atmospheric Administration; 1100 Wayne Avenue, Suite 1210; Silver Spring, MD 20910-5603.

FOR FURTHER INFORMATION CONTACT: Irma duPree at the above address, or at (301) 427-2089 ext. 107, fax: (301) 427-2222, Internet: irma.duPree@noaa.gov.

SUPPLEMENTARY INFORMATION:

1. Funding Availability

NOAA believes that the Climate and Global Change Program will benefit significantly from a strong partnership with outside investigators. Current Program plans assume that over 50% of the total resources provided through this announcement will support extramural efforts, particularly those involving the broad academic community. Please be advised that actual funding levels will depend upon the final FY 2003 budget appropriations. In previous years approximately $6,000,000 has been available. Approximately 60 new awards are made each year.

This Program Announcement is for projects to be conducted by investigators both inside and outside of NOAA, primarily over a one, two or three year period. The NOAA Climate and Global Change Program has been approved for multi-year funding up to a three year duration. The funding instrument for extramural awards will be a grant unless it is anticipated that NOAA will be substantially involved in the implementation of the project, in which case the funding instrument should be a cooperative agreement. Examples of substantial involvement may include but are not limited to proposals for collaboration between NOAA or NOAA scientists and a recipient scientist or technician and/or contemplation by NOAA of detailing Federal personnel to work on proposed projects. NOAA will make decisions regarding the use of a cooperative agreement on a case-by-case basis. Funding for contractual arrangements for services and products for delivery to NOAA is not available under this announcement. Matching share is not required by this program.

2. Program Authority

49 U.S.C. 44720(b); 33 U.S.C. 883d; 15 U.S.C. 2904; 15 U.S.C. 2931 et seq.; (CFDA No. 11.431)—Climate and Atmospheric Research

3. Program Objectives

The long-term objective of the Climate and Global Change Program is to provide reliable predictions of climate variability and change with associated regional implications on time scales ranging from seasons to a century or more. NOAA believes that climate variability across these time scales can be modelled with an acceptable probability of success and are the most relevant for fundamental social concerns. Predicting the behavior of the coupled ocean-atmosphere-land surface system will be NOAA's primary contribution to a successful national effort to deal with observed or anticipated changes in the global environment. NOAA has a range of unique facilities and capabilities that can be applied to Climate and Global Change investigations. Proposals that seek to exploit these resources in collaborative efforts between NOAA and extramural investigators are encouraged.

4. Program Elements

In FY 2003, NOAA will give priority attention to individual proposals in the Main Program Elements listed below. The names, affiliations and phone numbers of relevant Climate and Global Change Program Managers are provided. Funding for some programs may be limited to ongoing projects or may be used to fund projects proposed in FY 2002 that were unable to be funded due to budgetary circumstances. Prospective investigators are urged to check the Climate & Global Change Program Web page (http://www.ogp.noaa.gov/) for general Managers for information on priorities within program elements and prospects for funding.

(A) Aerosol-Climate Interactions Program—(ACIP)—The goal of the Aerosol-Climate Interaction Program (ACIP)—formerly known as the Aerosols Program, is elucidation of the role of aerosols in climate. To this end, ACIP seeks to answer the following questions: (1) What are the properties and distributions of radiatively significant tropospheric aerosols; and (2) What is the impact of those properties on the radiative balance of the Earth/Atmosphere climate system?

To this end, ACIP has restricted support to and will continue to support research focused on the following topics, which are all designed to address the two questions cited above in support of program goals: (1) In-situ measurements of aerosols, in the context of highly focused field studies; (2) improvement and development of methodologies necessary to fill critical gaps in current in-situ aerosol measurement capabilities; and (3) data analyses stressing the synergistic use of in-situ and remotely-sensed data sets.

ACIP functions in a highly cooperative context with related programs at the National Science Foundation, NASA, and the Department of Energy, with an emphasis on collaboration in multi-disciplinary field campaigns as well as individual investigations designed to exploit opportunities to achieve synergies among program goals. To facilitate achieving these ends, ACIP places high priority on research foci and strategies articulated by the National Aerosol-Climate Interaction Program. Further information on that program can be found on the Internet at http://www.c4.ucsd.edu/NACIP.

In FY 2003, ACIP anticipates augmentation of funding based upon the President's FY 2003 budget request. Because these funds have not yet been secured by NOAA, prospective participants in the program are warned that availability of funding is not assured.

For FY 2003, ACIP is soliciting proposals limited to the following:

(1) Investigations addressing limiting factors in current in-situ measurement capabilities. Priority will be given to methods and techniques applicable to development of fast, compact, instruments, capable of autonomous operation and integration with common data services, that can be deployed on light aircraft. Examples of applicable research include, but are not limited to, aerosol light absorption, chemical analyses of carbonaceous aerosols, selective analysis of soot, improved measurements of CCN, instrument intercomparisons and developments, of standards.

(2) Overlapping with item (1), special focus is placed on spin-up of comprehensive light-aircraft field measurements of the most radiatively important aerosols, with an emphasis on elucidation of black carbon distributions. The objective of this study will be collection of adequate data aloft to begin the process of verifying and validating chemical transport models. It is expected that a well-designed study will invoke and be highly integrated with a state-of-the-art modelling framework.

(3) As a follow-up to the ACE-Asia field campaign, data analyses stressing the synergistic use of multi-disciplinary data sets, with emphases on achieving closure on the radiative impacts of Asian aerosols observed during the campaign. Further information on ACE-Asia can be obtained at http://http://saga.pmel.noaa.gov/aceasia/.

Further information may be obtained from the ACIP home page posted on the Internet (http://ogp.noaa.gov/mpe/acip/index.htm). In addition, prospective investigators are welcome to contact the Program Manager, Joel Levy, at 301-427-2089 x111 (voice); 301-427-2073 (fax); or Joel.Levy@noaa.gov (e-mail).

(b) Atmospheric Chemistry—The Atmospheric Chemistry Project focuses on global monitoring, process-oriented laboratory and field studies, and theoretical modelling to improve the predictive understanding of the atmospheric trace species that influence the earth's chemical and radiative balance and the variation of the concentration of these trace species regionally and seasonally. Note that grants funded under this program support joint research activities of the International Global Atmospheric Chemistry (IGAC) project and NOAA/OGP, but are restricted to non-NOAA scientists whose participation is critical to the success of this research. Grant proposals will be evaluated by expert reviewers from the atmospheric chemistry community in the context of critical gaps in and desired supplements to the existing IGAC and NOAA research. For further information please contact: Krisa Arzayus NOAA/Office of Global Programs, 301-427-2089 ext. 183, Internet: krisa.arzayus@noaa.gov; or Fred C. Fehsenfeld, NOAA/Aeronomy Laboratory, Boulder, CO, 303-497-5819, Internet: fcf@al.noaa.gov.

(C) Climate Observation: The goal of this element is to build and sustain the global climate observing system that is needed to satisfy the long-term requirements of the operational forecast centers, international research programs, and major scientific assessments. The element supports in situ ocean and atmospheric components that contribute to global networks for understanding the Earth's climate system, the global water cycle, and the global carbon cycle, and looks for efficiencies to be gained by utilizing common platforms/sites/data infrastructure for several objectives. This program element will not accept applications for new projects in FY 2003, but will support renewal applications for ongoing efforts or as part of ongoing negotiations. For more information contact: Michael Johnson, NOAA Office of Global Programs, 301-427-2089 ext. 169, Internet: johnson@ogp.noaa.gov.

(D) Climate and Societal Interactions (CSI): Research on Vulnerability, Opportunities, and Response Options. Variability, change, and surprise results from a wide variety of climatological, social, economic and ecological circumstances and interactions. The purpose of this program is to increase understanding of the impacts of climate variability and change as conditioned by ongoing processes of decision-making and socio-economic transformation. The suite of efforts is intended to further research-based integration between studies of the whole of the climate system, including human components, such as health, and evolving informational and educational needs of decision-makers in climate sensitive sectors around the world. The goal is to provide the basis for more effective application of climate information, including climate forecasts, for purposes of adaptation. The intent of this program is to encourage overlapping research approaches to integrate knowledge for problem solving. The CSI is a chapeau for a suite of activities; prospective applicants must apply to one of the following program elements:

Human Dimensions of Global Change Research (HDGCR): One of the main goals of the HDGCR program is understanding and analyzing the decision process as it relates to information about a dynamic climate system. The program is interested in building and analyses, modelling, and field work of societal adaptation to climate and the use of scientific information. For more information contact: Nancy Beller-Simms, NOAA/Office of Global Programs, 301-427-2089 ext. 180, nancy.beller-simms@noaa.gov; or Caitlin Simpson, NOAA/Office of Global Programs, 301-427-2089 ext. 152, caitlin.simpson@noaa.gov.

Health and Climate Variability: A joint interagency announcement is anticipated on Climate and Health. (For more information on this future announcement contact Juli Trtanj, NOAA/Office of Global Programs, 301-427-2089 ext. 134, Internet: trtanj@ogp.noaa.gov.)

Regional Integrated Sciences and Assessments: This program element was titled Regional Assessments. NOAA's present program of Regional Integrated Sciences and Assessments possesses three distinct qualities:

(1) Interdisciplinary, integration and synthesis; (2) bringing the gap between climatic, environmental and societal interactions on different temporal and spatial scales; and (3) decision support and services. It requires innovative partnerships among a spectrum of interested parties (Federal, State, local and private) to enable regional organizational capacity to develop accurate (i.e., identifying risks, uncertainties, and/or indeterminacies), balanced syntheses and services on an ongoing basis. As such, the program relies heavily on consolidating the results and data from ongoing NOAA-OGP disciplinary program elements, already funded in a region, into an integrated framework. This program will not accept applications to initiate new activities, but will accept renewal applications for ongoing efforts or as part of ongoing negotiations. For more information contact: Harvey Hill, NOAA/Office of Global Programs, 301-427-2089 ext. 197, e-mail address: harvey.hill@noaa.gov.

(E) Climate Change Data and Detection: The scientific goals of this element include efforts to:

(1) Provide data and information management support to assure the availability of critical data sets for a variety of international programs and assessments of primary interest to NOAA's C&GC Program, e.g., WCRP (World Climate Research Program) and IGBP (International Geosphere Biosphere Program), GCOS (the Global Climate Observing System), the IPCC (Intergovernmental Panel on Climate Change), as well as national programs and assessments, e.g., Pan-American Climate Studies (PACS), US CLIVAR (Climate Variability and Predictability) Program, the US National Climate Assessment, the Tri-lateral North American Climate Extremes Assessment, etc.; (2) develop, quality control, and evaluate data sets and quantify time-dependent biases (homogeneity) for cross-cutting science necessary to improve our ability to describe, understand, and predict seasonal, interannual, decadal, and longer term climate variations and changes; (3) calibrate, validate, and blend existing data sets from a variety of observing systems, including space based, in situ, and model data (data set enrichment); (4) document the quantitative character of observed climate variations and changes (climate change detection); and (5) attribute changes in the observed climate record to specific climate forcing (climate change attribution).

During FY 2003, the Climate Change Data and Detection program element expects to include two major interagency activities:

—Climate Change Detection and Attribution: NOAA and the Department of Energy (DOE) will co-sponsor a project that addresses all aspects of climate change detection and attribution.

—Paleoclimatology: NOAA and the National Science Foundation (NSF) will co-sponsor a Paleoclimatology project that will entertain proposals to support the joint WCRP CLIVAR/IGBP PAGES Research Initiative. This initiative is jointly supported by NOAA and the NSF through the Earth System History (ESH) Program at NSF. This project will complement an in-house NOAA paleoclimatology research effort. For further information contact: Bill Murray, NOAA, 301-427-2098 ext. 133, Internet: murray@ogp.noaa.gov; Chris Miller, NOAA, 301-427-2089 ext. 143, Internet: miller@ogp.noaa.gov; Rick Petty, DOE; 301-903-5548, Internet: rick.petty@oer.doe.gov; or David Verardo, NSF, 703-292-8527, Internet: dverardo@nsf.gov.

(F) Climate Dynamics and Experimental Prediction: This program will not accept applications to initiate centers at new institutions, but will accept renewal applications for ongoing efforts or as part of ongoing negotiations. Qualified applications for this program may be submitted throughout the year. For further information contact: Anjuli Bamzai, NOAA/Global Programs, Silver Spring, MD; telephone: 301-427-2089 ext. 113, Internet: anjuli.bamzai.noaa.gov.

(G) Climate Variability and Predictability (CLIVAR): The U.S. CLIVAR program seeks to observe, model and understand patterns of climate variability on seasonal to decadal time scales and to assess the predictability of such climate variability. The ultimate goal of NOAA's participation in CLIVAR is to develop skillful predictions of climate variability and change on seasonal to multi-decadal time scales and regional spatial scales for optimal use in resource planning and police decision making. The program is designed to understand global climate variability; to determine the spatial and temporal extent to which this variability is predictable, to develop the observational, theoretical, and computational means to predict variability and to make enhanced predictions, where feasible. NOAA's research focuses on large-scale recurrent patterns of variability that influence climate on the regional scale, particularly over the US. Among these patterns are the El Nino-Southern Oscillation (ENSO), Pacific Decadal Oscillation (PDO), Tropical Atlantic Variability (TAV), the North Atlantic Oscillation (NAO), and the American monsoon systems. NOAA has structured its CLIVAR program to focus on variability and predictability within three regions: the Atlantic, the Pacific, and Pan America. For the Pan American Climate Studies (PACS) program, please contact Michael Patterson, NOAA/Global Programs, 301-427-2089 ext. 102, Internet: michael.patterson@noaa.gov. For further information on CLIVAR-Atlantic, please contact James Todd, NOAA/Global Programs, 301/427-2089 ext. 139, Internet: james.todd@noaa.gov. For the CLIVAR- Pacific, please contact Ming Ji, NOAA/Global, Programs, 301-427-2089 ext. 189, Internet: ming.ji@noaa.gov.

(H) Economics and Human Dimensions of Climate Fluctuations: Please see Climate and Societal Interactions (CSI) above.

(I) GEWEX Americas Prediction Project (GAPP): GAPP is jointly supported by NOAA and NASA. Initiatives are solicited which have a geographical focus on the western USA or the Mississippi River Basin, and address the following GAPP priorities:

(1) Land memory and orographic processes and their spatial and temporal variability: GAPP seeks to better understand the contributions of orography (including features such as the low level jet), soil moisture, vegetation and snow and other cold land processes to the predictability of the water cycle.

(2) Model transferability studies, enriched data set production and assimilation of remotely-sensed data to support the US contribution to the GEWEX Coordinated Enhanced Observing Period.

(3) Scientific investigations to examine the applications of climate forecasts and GAPP products in water resources management. Details about GAPP are available through the GAPP Science Plan and on the GAPP Web Site at http://www.ogp.noaa.gov/mpe/gapp/index.htm. For further information, please contact Rick Lawford (lawford@ogp.noaa.gov. 301-427-2089 ext. 146), or Michael Jasinski (mjasinsk@mail.hq.nass.gov, 202-358-1847), or Jin Huang (huang@ogp.noaa.gov, 301-427-2089 ext. 148).

(J) Global Carbon Cycle (GCC): The U.S. Interagency Carbon Cycle Science Program (CCSP) seeks to answer two overarching questions: (1) How large and variable are the dynamic reservoirs and fluxes of carbon within the Earth System, and how might carbon cycling change and be changed in future years, decades and centuries, and (2) What are our options for managing carbon sources and sinks to achieve an appropriate balance of risk, costs, and benefits to society? For more detailed information on interagency priorities, science planning and agency roles, please consult the Web at: http://www.carboncyclescience.gov.

NOAA's participation in the U.S. program focuses on three main goals: (1) Quantifying spatial patterns and variability of carbon sources and sinks at global to regional scales; (2) documenting the fate of anthropogenic CO2 in the atmosphere and oceans; and (3) improving future climate predictions by incorporating a dynamic understanding of the carbon cycle into models. To achieve these goals, the GCC program focuses on oceanic and atmospheric observations, process-oriented field studies and modelling. Information and current project abstracts can be found on the Web at: http://www.ogp.noaa.gov/mpe/gcc/index/html. For FY2003, GCC will issue a separate announcement later in the year. Investigators interested in the GCC program area are encouraged to respond to this later announcement. For further information, please contact: Lisa Dilling, NOAA/Office of Global Programs, 301-427-2089 ext. 106, Internet: dilling@ogp.noaa.gov or Krisa Arzayus, 301-427-2089 ext. 183 Internet: krisa.arzayus@noaa.gov or see the Web at: http://www.ogp.noaa.gov/mpe/gcc/index/html.

(K) Paleoclimatology: Please see Climate Change Data and Detection above.

5. Eligibility

Eligible applicants are institutions of higher education, other nonprofits, commercial organizations, international organizations, state, local and Indian tribal governments. Applications from non-Federal and Federal applicants will be competed against each other. Proposals selected for funding from non-Federal applicants will be funded through a project grant or cooperative agreement under the terms of this notice. Proposals selected for funding from NOAA scientists shall be effected by an intra-agency fund transfer. Proposals selected for funding from a non-NOAA Federal agency will be funded through an inter-agency transfer. PLEASE NOTE: Before non-NOAA Federal applicants may be funded, they must demonstrate that they have legal authority to receive funds from another Federal agency in excess of the appropriation. The only exception to this is governmental research facilities for awards issued under the authority of 49 USC 44720. Because this announcement is not proposing to procure goods or services from applicants, the Economy Act (31 USC 1535) is not an appropriate legal basis.

6. Letters of Intent (LOI)

The purpose of the LOI process is to provide information to potential applicants on the relevance of their proposed project to the Climate and Global Change Program and the likelihood of it being funded in advance of preparing a full proposal. Full proposals will be encouraged only for LOIs deemed relevant, therefore, it is in the best interest of the applicants and their institutions to submit an LOI; however, it is not a requirement. The LOI should provide a consise description of the proposed work and its relevance to the targeted program element. The LOI must include the components listed below. If these components are not included, the LOI risks a delayed response and may not be considered by the program reviewers. (A) Investigators must identify the program element that is being targeted in the LOI. (B) Investigators must specify a tentative project title in the LOI. (C) LOIs must include the name and institution of all principal investigator(s), and specify which individual is the Lead principal investigator. (D) LOIs should be no more than two pages in length and must include a statement of the problem, brief summary of work to be completed, methodology to be used, and approximate cost of the project. Facsimile and electronic mail are acceptable for LOIs (but not for full proposals).

A panel of program managers will review each LOI to determine whether the LOI is responsive to the program goals as advertised in this notice. An LOI response (e-mail or letter) will be sent back to the investigator encouraging or discouraging a full proposal. The final decision to submit a full proposal will be made by the investigator.

7. Evaluation Criteria

Consideration for financial assistance will be given to those proposals that address one of the Program Elements listed above and meet the following evaluation criteria:

(A) Scientific Merit: Intrinsic scientific value of the subject and the study proposed, including methodology and readiness: 50%.

(B) Relevance: Importance and relevance to the goals of the selected Program Element(s). (See Program Objectives above): 50%.

8. Selection Procedures

Proposals, including those submitted by NOAA employees, will be evaluated in accordance with the above evaluation criteria by (A) independent per mail review, and/or (B) independent peer panel review consisting of both NOAA and non-NOAA (including non-Federal) experts. The Program Manager will not be a voting member of an independent peer panel. Occasionally a peer mail review or a peer panel review will be used exclusively. More often, the peer mail reviews will be provided to the peer review panel for use in its deliberations. The peer mail reviewers rate each proposal using the above evaluation criteria. The panel will review and discuss each project and, based on the above evaluation criteria, each member of the panel will separately provide a single numerical rating of each project. These ratings result in a rank order which, in association with a post-rating panel discussion, is used to establish those proposals that are meritorious and relevant and worthy of further consideration.

The Program Manager will make his/her recommendations to the Selecting Official based upon his/her determination as to which of the worthy proposals (1) best achieve the strategic goals of NOAA (2) are most likely to be completed successfully, (3) do not substantially duplicate other projects that are currently funded by NOAA or are approved for funding by other federal agencies, (4) provide programmatic balance, (5) are highly cost effective and (6) fall within remaining funds available. Unsatisfactory performance by a recipient under prior Federal awards may result in an application not being considered for funding. Although rare, the Program Manager may decide to recommend a project that was not categorized as worthy of funding if he/she determines that it is a high-risk project from which a substantial potential benefit may occur. The Program Manager will also determine the total duration of funding and the amount of funding for each selected proposal.

The Program Manager submits his/her recommendations to the Selecting Official who may approve or modify the final selection of projects to be recommended to the Grants Officer for funding based on the selection factors (1) to (6) above or classified as high risk, but with substantial potential benefit.

Applications proposed for funding are subject to the requirements of Executive Order 12372, “intergovernmental Review of Federal Programs”. This Notice has been determined to be “not significant” for purposes of Executive Order 12866. It has been determined that this notice does not contain policies with Federalism implications as that term is defined in Executive Order 13132. Because notice and comment are not required under 5 U.S.C. 553, or any other law, for this notice relating to public property, loans, grants benefits or contracts (5 U.S.C. 553(a)), a Regulatory Flexibility Analysis is not required and has not been prepared for this notice, 5 U.S.C. 601 et seq. Pursuant to Executive Orders 13256, 12900, and 13021, the Department of Commerce, National Oceanic and Atmospheric Administration (DOC/NOAA) is strongly committed to broadening the participation of Historically Black Colleges and Universities (HBCU), Hispanic Serving Institutions (HIS), and Tribal Colleges and Universities (TCU) in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MSIs. Institutions eligible to be considered MSIs are listed at the following Internet Web site: http://www.ed.gov/offices/OCR/99minin.html.

The Department of Commerce Pre-Award Notification Requirements for Grants and Cooperative Agreements contained in the Federal Register notice of October 1, 2001 (66 FR 49917), are applicable to this solicitation. However, please note that the Department will not implement the requirements of Executive Order 13202 (66 FR 49921), pursuant to guidance issued by the office of Management Budget in light of a court opinion which found that the Executive Order was not legally authorized. See Building and Construction Trades Department v. Allbaugh, 172 F. Supp. 2d 138 (D.D.C. 2001). This decision is currently on appeal. When the case has been finally resolved, the Department will provide further information on implementation of Executive Order 13202.

Louisa Koch,
Deputy Assistant Administrator.

[FR Doc. 02-8453 Filed 4-5-02; 8:45 am]

BILLING CODE 3510-KB-M